ENVIRONMENTAL PROTECTION AGENCY

[OPPTS-00274C; FRL-6559-8]

Voluntary Children's Chemical Evaluation Program, Stakeholder Involvement Process; Extension of Comment Period

AGENCY: Environmental Protection Agency (EPA).

ACTION: Notice; extension of comment period.

SUMMARY: EPA is extending the comment period, announced in the March 29, 2000, Federal Register, for the Voluntary Children's Chemical Evaluation Program (VCCEP), from May 12 to May 30, 2000. The VCCEP, formerly known as the Voluntary Children's Health Chemical Testing Program, is a voluntary program to ensure that health effects data are publicly available for industrial chemicals to which children and prospective parents may have a high likelihood of exposure. The comment period is being extended to allow stakeholders additional time to comment on the VCEEP subsequent to the last public meeting of the stakeholder involvement process.

DATES: Comments, identified by docket control number OPPTS-00274B, must be received on or before May 30, 2000.

ADDRESSES: Comments may be submitted by mail, electronically, or in person. Please follow the instructions for each method as directed in Unit III. of the SUPPLEMENTARY INFORMATION. To ensure proper receipt by EPA, it is imperative that you identify docket control number OPPTS-00274B in the subject line on the first page of your response.

FOR FURTHER INFORMATION CONTACT: For general information contact: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

For technical information contact: Ward Penberthy, Office of Pollution Prevention and Toxics, Chemical Control Division (7405), Environmental Protection Agency, 1200 Pennsylvania Ave., NW., Washington, DC 20460; telephone number: (202) 260-0508; e-mail address: chem.rtk@epamail.epa.gov. Electronic messages must contain the docket control number OPPTS-00274B and the heading, “Voluntary Children's Chemical Evaluation Program, Stakeholder Involvement Process,” in the subject line on the first page of your message.

SUPPLEMENTARY INFORMATION:

I. Does This Action Apply to Me?

This action is directed to the public in general. This action may, however, be of interest to those chemical manufacturers and processors who are or may be required to conduct testing of chemical substances under the Toxic Substances Control Act (TSCA) section 4, individuals or groups concerned with chemical testing and children's health, animal welfare groups, or other members of the general public. Since other entities may also be interested, the Agency has not attempted to describe all the specific entities that may be affected by this action. If you have any questions regarding the applicability of this action to a particular entity, consult the technical person listed under FOR FURTHER INFORMATION CONTACT.

II. How Can I Get Additional Information, Including Copies of This Document or Other Related Documents?

A. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

To access information about the stakeholder meetings or the April 10, 2000, revision of the document entitled “Framework for a Voluntary Children's Chemical Evaluation Program,” you may go directly to the website at http://www.epa.gov/chemrtk/childhlt.htm.

B. In Person. The Agency has established an official record for this action under docket control number OPPTS-00274C. The official record consists of the documents specifically referenced in this notice, any public comments received during an applicable comment period, and other information related to the Voluntary Children's Chemical Evaluation Program, including any information claimed as Confidential Business Information (CBI). This official record includes the documents that are physically located in the docket, as well as the documents that are referenced in those documents. The public version of the official record, which includes printed, paper versions of any electronic comments that may be submitted during an applicable comment period, is available for inspection in the TSCA Nonconfidential Information Center, North East Rm. B-607, Waterside Mall, 401 M St., SW., Washington, DC. The Center is open from noon to 4 p.m., Monday through Friday, excluding legal holidays. The telephone number of the Center is (202) 260-7099.

C. By Phone. If you need additional information about this action, you may also contact the persons listed under “FOR FURTHER INFORMATION CONTACT.”

A copy of the April 10, 2000, revision of the document entitled “Framework for a Voluntary Children's Chemical Evaluation Program” may be obtained by calling the TSCA Hotline at (202) 554-1404.

III. How and to Whom Do I Submit Comments?

As described in Units I.D. and I.E. of the notice published in the Federal Register of March 29, 2000 (65 FR 16590) (FRL-6552-6), you may submit your comments through the mail, in person, or electronically. Please follow the instructions that are provided in that notice. Do not submit any information electronically that you consider to be CBI. To ensure proper receipt by EPA, be sure to identify docket control number OPPTS-00274B in the subject line on the first page of your response.

IV. What Action is EPA taking?

EPA is extending the comment period on the VCCEP from May 12 to May 30, 2000. The VCCEP is described in the April 10, 2000, revision of the document entitled “Framework for a Voluntary Children's Chemical Evaluation Program” which EPA made available to the public on April 12, 2000. The VCCEP was developed using a stakeholder involvement process which was announced in the Federal Register of August 26, 1999 (64 FR 46673) (FRL-6089-1).

List of Subjects

Environmental protection, Chemicals, Children, Hazardous substances, Health and safety.

Dated: May 10, 2000.
William H. Sanders III,
Director, Office of Pollution Prevention and Toxics.

[FR Doc. 00-12278 Filed 5-11-00; 2:34 pm]

BILLING CODE 6560-50-F